ENVIRONMENTAL PROTECTION AGENCY

[OAR-2005-0118, FRL-7991-3]

Agency Information Collection Activities; Submission to OMB for Review and Approval; Air Pollution Regulations for Outer Continental Shelf Activities (Renewal); EPA ICR Number 1601.06, OMB Control Number 2060-0249

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2005. Under OMB regulations, the Agency may continue to conduct or sponsor the collection of information while this submission is pending at OMB. This ICR describes the nature of the information collection and its estimated burden and cost.

DATES: Additional comments may be submitted on or before December 1, 2005.

ADDRESSES: Submit your comments, referencing docket ID number OAR-2005-0118, to (1) EPA online using EDOCKET (our preferred method), by e-mail to a-and-r-Docket@epa.gov, to: Environmental Protection Agency, EPA Docket Center (EPA/DC), Air and Radiation Docket and Information Center, 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: David Sanders, Office of Air Quality Planning and Standards, Mail Drop 539-02, Environmental Protection Agency, Research Triangle Park, North Carolina 27711; telephone number: (919) 541-3356; fax number: (919) 541-0824; e-mail address: sanders.dave@epa.gov.

SUPPLEMENTARY INFORMATION: EPA has submitted the following ICR to OMB for review and approval according to the procedures prescribed in 5 CFR 1320.12. On May 20, 2005 (70 FR 29305), EPA sought comments on this ICR pursuant to 5 CFR 1320.8(d). EPA has addressed the comments received.

EPA has established a public docket for this ICR under Docket ID No. OAR-2005-0118, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Air Pollution Regulations for Outer Continental Shelf Activities (Renewal).

Abstract: Section 328 (Air Pollution From Outer Continental Shelf Activities) of the Clean Air Act (CAA) as amended in 1990, gives EPA responsibility for regulating air pollution from Outer Continental Shelf (OCS) sources located offshore of the States along the Pacific, Arctic, and Atlantic Coasts, and along the eastern Gulf of Mexico coast (off the coast of Florida). The U.S. Department of Interior's Minerals Management Service retained the responsibility for regulating air pollution from sources located in the western Gulf of Mexico. To comply with the requirements of section 328 of the CAA, EPA, on September 4, 1992 at 57 FR 40792, promulgated regulations to control air pollution from OCS sources in order to attain and maintain Federal and State ambient air quality standards and to comply with the provisions of part C of title I of the CAA. Sources located within 25 miles of a State's seaward boundary must comply with the same State/local air pollution control requirements as would be applicable if the source were located in the corresponding onshore area. Sources located more than 25 miles from a State's seaward boundary must comply with EPA air pollution control regulations. The regulations are codified as part 55 of chapter I of title 40 of the Code of Federal Regulations (CFR). On September 2, 1997, EPA made two court-ordered revisions to the regulations. The need and authority for this information collection is contained in section 328 of the CAA and in EPA OCS Air Regulations, codified as title 40 CFR part 55. The way such information is planned to be and/or has been used to further the proper performance of the functions of the agency is through the Administrator who must update the requirements as necessary to maintain consistency with onshore regulations. Each requirement established under section 328 is treated, for purposes of sections 113 (Federal Enforcement), 114 (Inspections, Monitoring, and Entry), 116 (Retention of State Authority), 120 (Noncompliance Authority), and 304 (Citizen Suits) of the CAA, as a standard under section 111 and a violation of any such requirements will be considered a violation of section 111(e) of the CAA. Responses to the collection of information are voluntary.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 549 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are all outer continental shelf sources except those located in the Gulf of Mexico west of 87.5 degrees longitude (near the border of Florida and Alabama). For sources located within 25 miles of States' seaward boundaries, the requirements are the same as those that would be applicable if the source were located in the corresponding onshore area. In States affected by this rule, State boundaries extend three miles from the coastline, except off the coast of the Florida Panhandle, where the State's boundary extends three leagues (about nine miles) from the coastline.

Estimated Number of Respondents: 49.

Frequency of Response: On occasion.

Estimated Total Annual Hour Burden: 34,024.

Estimated Total Annual Cost: $1,858,350, which includes $0 annualized capital/startup costs, $17,886 annual O&M costs, and $1,840,464 annual labor costs.

Changes in the Estimates: There is an increase of 375 hours in the total estimated burden currently identified in the OMB Inventory of Approved ICR Burdens. This increase is due to two main factors:

• Minerals Management Service has projected an increase in the number of Outer Continental Shelf existing development/production sources in need of equipment modifications over the course of the next three years, which is significantly greater than estimates at the time of the original and past ICR. Although there is an increase in modifications on existing sources, there are no new sources of development/production and, therefore, no capital cost burden. As a result, the total burden shows a reduction in cost when compared to the previous ICR burden.

• Adjustments to the estimate are in 2005 dollars.

Dated: October 24, 2005.
Oscar Morales,
Director, Collection Strategies Division.

[FR Doc. 05-21763 Filed 10-31-05; 8:45 am]

BILLING CODE 6560-50-P